DEPARTMENT OF THE INTERIOR

National Park Service

[NPS-WASO-BSD-CONC-20917; PPWOBSADC0, PPMVSCS1Y.Y00000(166)]

Information Collection Request Sent to the Office of Management and Budget (OMB) for Approval; Commercial Use Authorizations

AGENCY: National Park Service, Interior.

ACTION: Notice; request for comments.

SUMMARY: We (National Park Service, NPS) have sent an Information Collection Request (ICR) to OMB for review and approval. We summarize the ICR below and describe the nature of the collection and the estimated burden and cost. This IC is scheduled to expire on August 31, 2016. We may not conduct or sponsor and you are not required to respond to a collection of information unless it displays a currently valid OMB control number.

DATES: You must submit comments on or before August 8, 2016.

ADDRESSES: Send your comments and suggestions on this information collection to the Desk Officer for the Department of the Interior at OMB—OIRA at (202) 395-5806 (fax) or OIRA_Submission@omb.eop.gov (email). Please provide a copy of your comments to Madonna L. Baucum, Information Collection Clearance Officer, National Park Service, 12201 Sunrise Valley Drive, Room 2C114, Mail Stop 242, Reston, VA 20192 (mail); or madonna_baucum@nps.gov (email). Please include “1024-0268 CUA” in the subject line of your comments.

FOR FURTHER INFORMATION CONTACT: To request additional information about this ICR, contact Samantha Towery, National Park Service, 12795 West Alameda Parkway, Lakewood, CO 80228; by fax at (303) 987-6901; or via email at Samantha_Towery@nps.gov. You may review the ICR online at http://www.reginfo.gov. Follow the instructions to review Department of the Interior collections under review by OMB.

SUPPLEMENTARY INFORMATION:

I. Abstract

The purpose of this information collection is to assist the NPS in managing the Commercial Use Authorization Program. Conducting commercial operations in a unit of the National Park System without a contract, permit, commercial use authorization, or some other written agreement is prohibited. Section 418, Public Law 105-391 (54 U.S.C. 101925) gives the Secretary of the Interior the authority to authorize a private person, corporation, or other entity to provide services to visitors in units of the National Park System through a Commercial Use Authorization (CUA). Such authorizations are not considered concession contracts. We authorize commercial operations that originate and operate entirely within a park (in-park); commercial operations that provide services originating and terminating outside of the park boundaries; organized children's camps, outdoor clubs, and nonprofit institutions; and other uses as the Secretary determines appropriate. The commercial operations include a range of services, such as mountain climbing guides, boat repair services, transportation services and tours, canoe livery operations, hunting guides, retail sales, equipment rentals, catering services, and dozens of other visitor services.

Section 418 limits CUAs to:

• Commercial operations with annual gross receipts of not more than $25,000 resulting from services originating and provided solely within a unit of the National Park System;

• Incidental use of resources of the unit by commercial operations which provide services originating and terminating outside of the boundaries of the unit; or

• Uses by organized children's camps, outdoor clubs and nonprofit institutions (including back country use) and such other uses as the Secretary determines appropriate.

The legislative mandate of the NPS, found at 54 U.S.C. 1100101, is to preserve America's natural wonders unimpaired for future generations, while also making them available for the enjoyment of visitors. Meeting this mandate requires the NPS to balance preservation with use. Maintaining a good balance requires both information and limits. The information requested will allow the unit manager to evaluate requests for a commercial use to determine impact on the resources and the appropriateness of the activity.

We collect information on the CUA Application (Form 10-550), the CUA Annual Report (Form 10-660), and CUA Monthly Report (Form 10-660A). We use the information from these forms to:

• Manage the program and operations.

• Determine the qualifications and abilities of the commercial operators to provide a high quality, safe, and enjoyable experience for park visitors.

• Determine the impact on the parks natural and cultural resources.

• Manage the use and impact of multiple operators.

The information requested will allow the NPS to evaluate requests for a commercial use authorization and determine the suitability of the applicants to safely and effectively provide an appropriate service to the visiting public. It will also enable the NPS to manage the activity in a manner that protects the natural and cultural resources and the park visitor. Management includes, but is not limited to, managing the number of permits issued, determining the location and time that the activity occurs, and requiring the appropriate visitor protections including insurance, equipment, training, and procedures.

Regulations Resulting in Information Collection Required for a Commercial Use Authorization

36 CFR 1.6—Permits

36 CFR 2—Resource Protection, Public Use and Recreation

36 CFR 5—Commercial and Private Operations.

36 CFR 7—Special Regulations,

36 CFR Sec. 13—National Park System Units in Alaska

II. Data

OMB Number: 1024-0268.

Title: Commercial Use Authorization.

Form(s): 10-550, “Commercial Use Authorization Application and Instructions”, 10-660, “Commercial Use Authorization Annual Report and Instructions”, and 10-660A, “Commercial Use Authorization Monthly Report and Instructions”.

Type of Request: Revision to a Currently Approved Collection.

Description of Respondents: Respondents will be businesses that wish to provide a commercial service to visitors in areas of the National Park System.

Respondent Obligation: Required to Obtain or Retain a Benefit.

| Annual respondents | Total annual responses | Average time per response (hours) | Total annual burden hours
Form 10-550, “Commercial Use Authorization Application and Instructions”
Private Sector | 5,900 | 5,900 | 2.5 | 14,750
Form 10-660, “Commercial Use Authorization Annual Report and Instructions”
Private Sector | 5,900 | 5,900 | 1.25 | 7,375
Form 10-660A, “Commercial Use Authorization Monthly Report and Instructions”
Private Sector | 5,900 | 53,100 | .75 | 39,825
Totals | 17,700 | 64,900 |  | 61,950

Estimated Annual Nonhour Burden Cost: $590,000 ($100 × 5,900 Forms 10-550, “Commercial Use Authorization Application and Instructions” per year).

III. Comments

On January 11, 2016, we published in the Federal Register (80 FR 1202) a Notice requesting public comment on this information collection. The comment period ended on March 11, 2016. We received five comments in response to this Notice, all of which concerned the new requirement of form 10-660A, CUA Monthly Reporting at Katmai National Park. Commenters stated that the additional reporting requirement would create excess burden on CUA holders during a very busy and short operating season. They also expressed concern that the requirement to report visitation numbers would result in duplicate reporting since most park visitors utilized the services of more than one CUA holder.

NPS Response/Action Taken: NPS must strictly manage some CUA activities by imposing restrictions such as daily visitor limits to protect sensitive natural and cultural resources. Parks may require the submission of the CUA Monthly Report to more closely track these CUA activities and associated visitor use to ensure that maximum daily limits and seasonal average limits are not exceeded. By closely monitoring this information, the parks can also ensure that commercial operators do not exceed the authorized use before the end of the season and create a gap when prospective visitors cannot be accommodated.

Additionally, in Katmai National Park only, CUA holders that provide transportation are required to submit the CUA Monthly report in addition to the CUA Annual Report. The vast majority of visitors access the park by plane or boat operated by authorized commercial service providers and there are no entrance stations to track the number of visitors. The CUA Monthly reports provide the only means of securing an accurate visitor count and are used to influence short-term resource management decisions. By requiring only those authorized transportation providers to submit the CUA Monthly report, duplicate reporting is eliminated. The decision to limit the requirement of monthly reporting to only those CUA holders providing transportation was reached after public meetings held with current and prospective CUA holders. The NPS did not make any changes to our information collection based on these comments.

We also received a comment from Jean Public. The commenter did not address the information collection requirements, but stated that the Government should charge CUA holders fees to operate on public lands. NPS is legally required to charge a fee for commercial operations [section 418, Pub. L. 105-391 (54 U.S.C. 101925)]. Parks, at a minimum, charge a fee to recover costs associated with the management and administration of CUAs. We did not make any changes to our information collection based on this comment.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 1, 2016.
Madonna L. Baucum,
Information Collection Clearance Officer, National Park Service.

[FR Doc. 2016-16208 Filed 7-7-16; 8:45 am]

BILLING CODE 4310-EH-P